DEPARTMENT OF ENERGY

Federal Energy Regulatory Commission

[Project No. 2246-065]

Yuba County Water Agency; Notice of Petition for Waiver Determination

Take notice that on August 22, 2019, Yuba County Water Agency d/b/a Yuba Water Agency, applicant for relicensing the Yuba River Development Project No. 2246, filed a “Request for Determination of Waiver of Section 401 Water Quality Certification.” Yuba County Water Agency requests that the Commission declare that the California State Water Resources Control Board has waived its authority to issue a certification for the Yuba River Development Project under Section 401 of the Clean Water Act, 33 U.S.C. 1341(a)(1), as more fully explained in the filing.

Any person wishing to comment on the petition may do so.¹ The deadline for filing comments is 30 days from the issuance of this notice. The Commission encourages electronic submission of comments in lieu of paper using the “eFiling” link at http://www.ferc.gov. Persons unable to file electronically should send comments to the following address: Federal Energy Regulatory Commission, 888 First Street NE, Washington, DC 20426. Be sure to reference the project docket number (P-2246-065) with your submission.

¹ Yuba County Water Agency's request is part of its relicensing proceeding in Project No. 2246-065. Thus, any person that intervened in the relicensing proceeding is already a party. The filing of the request does not trigger a new opportunity to intervene.

This filing is accessible on-line at http://www.ferc.gov, using the “eLibrary” link and is available for review in the Commission's Public Reference Room in Washington, DC. There is an “eSubscription” link on the website that enables subscribers to receive email notification when a document is added to a subscribed docket(s). For assistance with any FERC Online service, please email FERCOnlineSupport@ferc.gov, or call (866) 208-3676 (toll free). For TTY, call (202) 502-8659.

Comment Date: 5:00 p.m. Eastern Time on April 2, 2020.

Dated: March 3, 2020.
Nathaniel J. Davis, Sr.,
Deputy Secretary.

[FR Doc. 2020-04868 Filed 3-9-20; 8:45 am]

BILLING CODE 6717-01-P